DEPARTMENT OF AGRICULTURE

Food Safety and Inspection Service

[Docket No. 02-018N]

National Advisory Committee on Meat and Poultry Inspection

AGENCY: Food Safety and Inspection Service, USDA.

ACTION: Notice of public meeting.

SUMMARY: The National Advisory Committee on Meat and Poultry Inspection (NACMPI) will hold a public meeting on June 5-6, 2002, to review and discuss three issues: New Technologies in Meat and Poultry Operations, the Farm Security and Rural Investment Act of 2002 (Public Law 107-171), and the FSIS Field Workforce. Three subcommittees of the full committee will also meet on June 5, 2002, to work on the issues discussed during the full Committee session. All interested parties are welcome to attend the meetings and to submit written comments and suggestions concerning issues the Committee will review and discuss.

DATES: The full Committee will hold a public meeting on Wednesday, June 5, and Thursday, June 6, 2002 from 8:30 a.m. to 5 p.m. Subcommittees will hold open meetings on Wednesday, June 5, 2002 from 7 p.m. to 9 p.m.

Note: FSIS was not able to publish notification of this public meeting in the Federal Register at least 15 days prior to the meeting, as required by Departmental Regulation 1041-001, due to late changes to the agenda.

ADDRESSES: All Committee meetings will take place at the Georgetown University Conference Center, 3800 Reservoir Road NW, Washington, DC. 20057. The full committee will meet in the Grand Ballroom A & G. The subcommittee meetings will be held in Conference Room 2, Conference Room 4, and Conference Room 5 and 6. A meeting agenda is available on the FSIS Web site at http://www.fsis.usda.gov/OPPDE/nacmpi, which is a sub-Web page of the FSIS home page at http://www.fsis.usda.gov. Submit one original and two copies of written comments to FSIS Docket Room, Docket #02-018N, U.S. Department of Agriculture, Food Safety and Inspection Service, Room 102 Cotton Annex, 300 12th Street SW, Washington, DC 20250-3700. Comments may also be sent by facsimile (202) 205-0381. The comments and the official transcript of the meeting, when they become available will be kept in the FSIS Docket Room at the address provided above. All comments received in response to this notice will be considered part of the public record and will be available for reviewing in the FSIS Docket Room between 8:30 a.m. and 4:30 p.m., Monday through Friday.

FOR FURTHER INFORMATION CONTACT: Charles L. Gioglio for technical information at (202) 205-0256 and Sonya L. West for meeting information at (202) 720-2561, FAX (202) 205-0157, or e-mail sonya.west@usda.gov. Persons requiring a sign language interpreter or other special accommodations should notify Ms. West by May 29, 2002, at the above numbers or by e-mail. Information is also available on FSIS Web site at http://www.fsis.usda.gov/OPPDE/nacmpi.

SUPPLEMENTARY INFORMATION:

Background

On January 19, 2001, the Secretary of Agriculture renewed the charter for the NACMPI. The Committee provides advice and recommendations to the Secretary of Agriculture pertaining to the Federal and State meat and poultry inspection programs pursuant to sections 301 (a)(4),7(c), 24, 205, 301(a)(3), and 301(c) of the Federal Meat Inspection Act and sections 5(a)(3), 5 (a)(4), 5(c), 8(b), and 11(e) of the Poultry Products Inspection Act. The Administrator of FSIS is the chairperson of the Committee. Membership of the Committee is drawn from representatives of consumer groups; producers, processors, and marketers from the meat and poultry industry; State government officials; and academia. The current members of the NACMPI are: Dr. Gladys Bayse, Spelman College; Nancy Donley, Safe Tables Our Priority; Sandra Eskin, American Association of Retired Persons; Dr. James Denton, University of Arkansas; Carol Tucker Foreman, Food Policy Institute, Consumer Federation of America; Michael Govro, Oregon Department of Agriculture; Martin Holmes, North American Meat Processors; Dr. Lee C. Jan, Texas Department of Health; Dr. Alice Johnson, National Food Processors Association; Collette Schulty Kaster, Premium Standard Farms; Dr. Daniel E. Lafontaine, South Carolina Meat-Poultry Inspection Department; Dr. Irene Leech, Virginia Tech; Charles Link, Cargill Turkey Products; Dr. Catherine Logue, North Dakota State University; Dr. Dale Morse, New York Department of Health; John Neal, Courseys Smoked Meats, and Michael Mamminga, Iowa Department of Agriculture and Land Stewardship.

The Committee has three subcommittees to deliberate on specific issues and make recommendations to the whole Committee.

Members of the public will be required to register before entering the meeting.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC, on May 29, 2002.
William J. Hudnall,
Acting Administrator.

[FR Doc. 02-13797 Filed 5-31-02; 8:45 am]

BILLING CODE 3410-DM-P